DEPARTMENT OF HOMELAND SECURITY

8 CFR Chapter I

[USCIS Docket No. USCIS-2019-0021]

RIN 1615-AC42

Ratification of Department Action

AGENCY: Department of Homeland Security (DHS).

ACTION: Ratification.

SUMMARY: The Department of Homeland Security is publishing notice of the Secretary of Homeland Security's ratification of a rule.

DATES: The ratification was signed on October 29, 2025 and relates back to the original date of the action that it ratifies.

FOR FURTHER INFORMATION CONTACT: Office of the General Counsel, DHS, Washington, DC 20528, (202) 282-9822.

SUPPLEMENTARY INFORMATION: On October 29, 2025, the Secretary of Homeland Security ratified the approval and issuance of the final rule titled “Procedures for Asylum and Withholding of Removal; Credible Fear and Reasonable Fear Review,” as well as the associated notice of proposed rulemaking. See 85 FR 80274 (Dec. 11, 2020); 85 FR 36264 (June 15, 2020).

DHS is now publishing the ratification in the Federal Register out of an abundance of caution. Neither the ratification nor the publication is a statement that the ratified action would be invalid absent the ratification, whether published or otherwise.

Joseph N. Mazzara,
Acting General Counsel, U.S. Department of Homeland Security.

Appendix

BILLING CODE 9110-9M-P

[FR Doc. 2025-20295 Filed 11-18-25; 8:45 am]

BILLING CODE 9110-9M-C